OFFICE OF PERSONNEL MANAGEMENT

Excepted Service

AGENCY: Office of Personnel Management (OPM).

ACTION: Notice.

SUMMARY: This gives notice of OPM decisions granting authority to make appointments under Schedules A, B, and C in the excepted service as required by 5 CFR 6.6 and 213.103.

FOR FURTHER INFORMATION CONTACT: C. Penn, Executive Resources Services Group, Center for Human Resources, Division for Human Capital Leadership and Merit System Accountability, 202-606-2246.

SUPPLEMENTARY INFORMATION: Appearing in the listing below are the individual authorities established under Schedules A, B, and C between December 1, 2006, and December 31, 2006. Future notices will be published on the fourth Tuesday of each month, or as soon as possible thereafter. A consolidated listing of all authorities as of June 30 is published each year.

Schedule A

No Schedule A appointments were approved for December 2006.

Schedule B

No Schedule B appointments were approved for December 2006.

Schedule C

The following Schedule C appointments were approved during December 2006.

Section 213.3304 Department of State

DSGS61200 Staff Assistant to the Under Secretary for Public Diplomacy and Public Affairs. Effective December 06, 2006.

DSGS61202 Senior Advisor to the Coordinator for International Information Programs. Effective December 06, 2006.

DSGS61300 Staff Assistant to the Under Secretary for Management. Effective December 13, 2006.

DSGS61203 Special Assistant to the Deputy Assistant Secretary. Effective December 19, 2006.

DSGS61089 Supervisory Protocol Officer (Visits) to the Chief of Protocol. Effective December 22, 2006.

DSGS61205 Protocol Officer (Visits) to the Chief of Protocol. Effective December 22, 2006.

Section 213.3305 Department of the Treasury

DYGS00479 Speechwriter to the Deputy Secretary of the Treasury. Effective December 08, 2006.

DYGS00430 Senior Advisor to the Under Secretary for Domestic Finance. Effective December 15, 2006.

DYGS00480 Policy Advisor to the Secretary. Effective December 22, 2006.

DYGS00481 Senior Counselor to the Assistant Secretary (Terrorist Financing). Effective December 29, 2006.

Section 213.3306 Department of Defense

DDGS17004 Speechwriter to the Principal Deputy Assistant Secretary of Defense for Public Affairs. Effective December 14, 2006.

DDGS17001 Speechwriter to the Assistant Secretary of Defense, Public Affairs. Effective December 20, 2006.

DDGS17002 Confidential Assistant to the Under Secretary of Defense (Personnel and Readiness). Effective December 20, 2006.

Section 213.3307 Department of the Army

DWGS60028 Personal and Confidential Assistant to the Assistant Secretary of the Army (Installations and Environment). Effective December 22, 2006.

Section 213.3309 Department of the Air Force

DFGS07001 Special Assistant to the Assistant Secretary of the Air Force (Acquisition) for Industrial Relations. Effective December 20, 2006.

Section 213.3310 Department of Justice

DJGS00323 Counsel to the Assistant Attorney General (Legal Policy). Effective December 04, 2006.

DJGS00065 Special Assistant to the Assistant Attorney General for Justice Programs. Effective December 15, 2006.

DJGS00066 Special Assistant to the Assistant Attorney General for Administration. Effective December 19, 2006.

Section 213.3311 Department of Homeland Security

DMGS00596 Associate Director for White House Actions and Policy Coordinating Committee Coordinator to the Executive Secretary. Effective December 06, 2006.

DMGS00595 Director of Homeland Security Council/National Security Council/White House Actions and Interagency Coordinator to the Executive Secretary. Effective December 06, 2006.

DMGS00597 Director of Communications, United States Citizenship and Immigration Services to the Director, Bureau of Citizenship and Immigration Services. Effective December 11, 2006.

DMGS00598 Legislative Assistant to the Assistant Secretary for Legislative Intergovernmental Affairs. Effective December 11, 2006.

DMGS00599 Legislative Assistant to the Assistant Secretary for Legislative Intergovernmental Affairs. Effective December 11, 2006.

DMGS00600 Confidential Assistant to the Under Secretary for Protocol and Advance Briefings to the Under Secretary for Science and Technology. Effective December 20, 2006.

DMGS00601 Legislative Assistant to the Assistant Secretary for Legislative Intergovernmental Affairs. Effective December 20, 2006.

DMGS00602 Director of Communications to the Assistant Secretary, Immigration and Customs Enforcement. Effective December 20, 2006.

DMGS00603 International Policy Analyst to the Under Secretary for Science and Technology. Effective December 20, 2006.

DMGS00605 Special Assistant for Strategic Communications and Public Relations to the Under Secretary for Science and Technology. Effective December 20, 2006.

DMGS00607 Business Liaison to the Assistant Secretary for Private Sector. Effective December 20, 2006.

DMGS00608 International Policy Analyst to the Under Secretary for Science and Technology. Effective December 20, 2006.

DMGS00611 Special Assistant to the White House Liaison and Advisor. Effective December 20, 2006.

Section 213.3312 Department of the Interior

DIGS01080 Assistant Director-Scheduling and Advance to the Director-Scheduling and Advance. Effective December 08, 2006.

DIGS01081 Associate Director to the Director, Congressional and Legislative Affairs. Effective December 13, 2006.

DIGS01083 White House Liaison to the Chief of Staff. Effective December 19, 2006.

DIGS01085 Special Assistant to the Assistant Secretary, Land and Minerals Management. Effective December 20, 2006.

DIGS06001 Special Assistant to the Director, Bureau of Land Management. Effective December 22, 2006.

Section 213.3313 Department of Agriculture

DAGS00865 Confidential Assistant to the Administrator. Effective December 06, 2006.

DAGS00869 Press Secretary to the Director of Communications. Effective December 14, 2006.

DAGS00868 Confidential Assistant to the Administrator, Rural Housing Service. Effective December 22, 2006.

DAGS00871 Staff Assistant to the Administrator, Farm Service Agency. Effective December 22, 2006.

Section 213.3314 Department of Commerce

DCGS00655 Senior Advisor to the Deputy Assistant Secretary for Domestic Operations. Effective December 22, 2006.

Section 213.3315 Department of Labor

DLGS60093 Staff Assistant to the Counselor in the Office of the Secretary. Effective December 20, 2006.

Section 213.3316 Department of Health and Human Services

DHGS60436 Associate Commissioner to the Assistant Secretary for Children and Families. Effective December 20, 2006.

DHGS60027 Deputy Director for Scheduling. Effective December 21, 2006.

DHGS60238 Regional Director, Boston, Massachusetts, Region I to the Director of Intergovernmental Affairs. Effective December 29, 2006.

Section 213.3317 Department of Education

DBGS00570 Confidential Assistant to the Deputy Assistant Secretary for Media Relations and Strategic Communications. Effective December 01, 2006.

DBGS00568 Deputy Assistant Secretary for Policy and State Technical Assistance to the Assistant Secretary for Elementary and Secondary Education. Effective December 07, 2006.

DBGS00574 Deputy Assistant Secretary for Community Colleges to the Assistant Secretary for Vocational and Adult Education. Effective December 06, 2006.

DBGS00576 Special Assistant to the Director, Scheduling and Advance Staff. Effective December 07, 2006.

DBGS00571 Confidential Assistant to the Senior Advisor to the Under Secretary. Effective December 08, 2006.

DBGS00573 Confidential Assistant to the Deputy Assistant Secretary. Effective December 08, 2006.

DBGS00575 Confidential Assistant to the Director, White House Liaison. Effective December 08, 2006.

DBGS00572 Special Assistant to the Assistant Secretary for Vocational and Adult Education. Effective December 11, 2006.

DBGS00569 Special Assistant to the Assistant Secretary for Elementary and Secondary Education. Effective December 14, 2006.

DBGS00577 Special Assistant to the Assistant Secretary for Legislation and Congressional Affairs. Effective December 19, 2006.

DBGS00578 Confidential Assistant to the Assistant Secretary for Elementary and Secondary Education. Effective December 20, 2006.

DBGS00579 Confidential Assistant to the Assistant Secretary for Legislation and Congressional Affairs. Effective December 22, 2006.

DBGS00581 Special Assistant to the Assistant Secretary for Legislation and Congressional Affairs. Effective December 22, 2006.

Section 213.3318 Environmental Protection Agency

EPGS06034 Deputy Speech Writer to the Associate Administrator for Public Affairs. Effective December 11, 2006.

EPGS06035 Advance Specialist to the Director of Advance. Effective December 11, 2006.

EPGS06032 Advance Specialist to the Director of Advance. Effective December 20, 2006.

Section 213.3331 Department of Energy

DEGS00547 Scheduler to the Secretary to the Director, Office of Scheduling and Advance. Effective December 12, 2006.

DEGS00548 Staff Assistant to the General Counsel. Effective December 22, 2006.

DEGS00549 Senior Advisor to the Principal Deputy Assistant Secretary. Effective December 22, 2006.

DEGS00553 Special Assistant to the Principal Deputy Assistant Secretary. Effective December 29, 2006.

Section 213.3332 Small Business Administration

SBGS00607 White House Liaison to the Chief of Staff. Effective December 01, 2006.

Section 213.3348 National Aeronautics and Space Administration

NNGS00177 Writer/Editor to the Associate Deputy Administrator for Policy and Planning. Effective December 22, 2006.

NNGS00179 Legislative Affairs Specialist to the Assistant Administrator for Legislative Affairs. Effective December 22, 2006.

Section 213.3384 Department of Housing and Urban Development

DUGS60039 Staff Assistant to the Assistant Secretary for Community Planning and Development. Effective December 20, 2006.

Section 213.3394 Department of Transportation

DTGS60324 Director for Scheduling and Advance to the Chief of Staff. Effective December 22, 2006.

DTGS60317 Deputy Assistant Administrator for Government and Industry Affairs. Effective December 29, 2006.

Office of Personnel Management.
Tricia Hollis,
Chief of Staff/Director of External Affairs.

[FR Doc. E7-1454 Filed 1-30-07; 8:45 am]

BILLING CODE 6325-43-P